DEPARTMENT OF TRANSPORTATION

Maritime Administration

Maritime Security Program

AGENCY: Maritime Administration, Department of Transportation.

ACTION: Extension of deadline for receiving applications for one Maritime Security Program (MSP) Operating Agreement, from November 3, 2008 to November 18, 2008.

SUMMARY: On October 2, 2008, the Maritime Administration published a request in the Federal Register for applications for one eligible vessel to fill one MSP Operating Agreement in accordance with the provisions of Subtitle C, Title XXXV of the National Defense Authorization Act for Fiscal Year 2004, the Maritime Security Act of 2003 (MSA 2003). The MSA 2003 authorizes the creation of a Maritime Security Program (MSP) that establishes a fleet of active, commercially viable, privately owned vessels to meet national defense and other security requirements and to maintain a United States presence in international commercial shipping. This request for applications provided, among other things, application criteria and a deadline for submitting applications for enrollment of one vessel in the MSP. The deadline established for the receipt of applications in that notice was established as close of business, eastern-time, November 3, 2008. In order to provide sufficient time for interested parties to prepare applications in response to that notice, the deadline is hereby extended to close of business, eastern-time, November 18, 2008.

FOR FURTHER INFORMATION CONTACT: Peter E. Petrelis, Acting Deputy Director, Office of Sealift Support, Maritime Administration, Telephone 202-366-6252.

Dated: October 28, 2008.
By Order of the Maritime Administration.
Leonard Sutter,
Secretary, Maritime Administration.

[FR Doc. E8-26087 Filed 10-31-08; 8:45 am]

BILLING CODE 4910-81-P